DEPARTMENT OF HEALTH AND HUMAN SERVICES

Centers for Disease Control and Prevention

[60Day-17-17NE: Docket No. CDC-2017-0008]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection plan titled, Survey of Engineered Nanomaterial Occupational Safety and Health Practices.

DATES: Written comments must be received on or before April 11, 2017.

ADDRESSES: You may submit comments, identified by Docket No. CDC-2017-0008 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Survey of Engineered Nanomaterial Occupational Safety and Health Practices—New—National Institute for Occupational Safety and Health (NIOSH), Centers for Disease Control and Prevention (CDC).

Background and Brief Description

As mandated in the Occupational Safety and Health Act of 1970 (PL 91-596), the mission of the National Institute for Occupational Safety and Health (NIOSH) is to conduct research and investigations on work-related disease and injury and to disseminate information for preventing identified workplace hazards (Sections 20 (a)(1) and (d), Attachment 1). This dual responsibility recognizes the need to translate research into workplace application if it is to impact worker safety and well-being.

Adhering to the mission, NIOSH seeks to collect new information through a project tilted “Survey of Engineered Nanomaterial Occupational Safety and Health Practices.” The goal of this project is to assess the relevance and impact of NIOSH's contribution to guidelines and risk mitigation practices for safe handling of engineered nanomaterials in the workplace. The intended use of this data is to inform NIOSH's research agenda to enhance its relevance and impact on worker safety and health in the context of engineered nanomaterials.

NIOSH will survey companies who manufacture, distribute, fabricate, formulate, use or provide services related to engineered nanomaterials. The analysis will describe the survey sample, response rates, and types of company by industry and size. Further analysis will focus on identifying the types of engineered nanomaterials being used in industry and the types of occupational safety and health practices being implemented. After analysis, NIOSH will use the information to develop a final report. This project will also help evaluate the influence of NIOSH products, services, and outputs on industry occupational safety and health practices.

Under this project, NIOSH will conduct the following activities and data collections:

(1) Company Pre-calls. Sampled companies will be contacted to identify the person who will complete the survey and to ascertain whether or not the company handles engineered nanomaterials.

(2) Survey. A web-based questionnaire, with a mail option, will be administered to companies. The purpose of the survey is to learn directly from companies about their use of NIOSH materials and their occupational safety and health practices concerning engineered nanomaterials.

A sample of 600 companies will be compiled from lists of industry associations, research reports, marketing databases, and web-based searches. Of the 600 selected companies we anticipate that 500 will complete the survey. The company pre-call is expected to require 5 minutes to complete. The survey is expected to require 20 minutes to complete; including the time it may take respondents to look-up and retrieve needed information. The estimated annualized burden hours for the respondents' time to participate in this information collection is 217 hours. There are no costs to the responders other than their time.

Estimated Annualized Burden Hours
Type of respondents | Form name | Number of respondents | Number of responses per respondent | Average burden per response (in hours) | Total burden (in hours)
Receptionist | Pre-call | 600 | 1 | 5/60 | 50
Occupational health and safety specialists | Survey | 200 | 1 | 20/60 | 67
Industrial Production Managers | Survey | 150 | 1 | 20/60 | 50
Natural Sciences Managers | Survey | 150 | 1 | 20/60 | 50
Total |  |  |  |  | 217

Leroy A. Richardson,
Chief, Information Collection Review Office, Office of Scientific Integrity, Office of the Associate Director for Science, Office of the Director, Centers for Disease Control and Prevention.

[FR Doc. 2017-02759 Filed 2-9-17; 8:45 am]

BILLING CODE 4163-18-P